DEPARTMENT OF HEALTH AND HUMAN SERVICES

Centers for Medicare & Medicaid Services

42 CFR Parts 412, 413, 424, and 495

[CMS-1694-CN]

RIN-0938-AT27

Medicare Program; Hospital Inpatient Prospective Payment Systems for Acute Care Hospitals and the Long-Term Care Hospital Prospective Payment System and Proposed Policy Changes and Fiscal Year 2019 Rates; Proposed Quality Reporting Requirements for Specific Providers; Proposed Medicare and Medicaid Electronic Health Record (EHR) Incentive Programs (Promoting Interoperability Programs) Requirements for Eligible Hospitals, Critical Access Hospitals, and Eligible Professionals; Medicare Cost Reporting Requirements; and Physician Certification and Recertification of Claims; Correction

AGENCY: Centers for Medicare & Medicaid Services (CMS), HHS.

ACTION: Proposed rule; correction.

SUMMARY: This document corrects technical and typographical errors in the proposed rule that appeared in the May 7, 2018 issue of the Federal Register titled “Medicare Program; Hospital Inpatient Prospective Payment Systems for Acute Care Hospitals and the Long-Term Care Hospital Prospective Payment System and Proposed Policy Changes and Fiscal Year 2019 Rates; Proposed Quality Reporting Requirements for Specific Providers; Proposed Medicare and Medicaid Electronic Health Record (EHR) Incentive Programs (Promoting Interoperability Programs) Requirements for Eligible Hospitals, Critical Access Hospitals, and Eligible Professionals; Medicare Cost Reporting Requirements; and Physician Certification and Recertification of Claims”.

DATES: June 20, 2018.

FOR FURTHER INFORMATION CONTACT: James Poyer (410) 786-2261.

SUPPLEMENTARY INFORMATION:

I. Background

In FR Doc. 2018-08705 of May 7, 2018 (83 FR 20164) there were a number of technical and typographical errors that are identified and corrected by the Correction of Errors section of this correcting document.

II. Summary of Errors in the Preamble

On page 20165, in the For Further Information Contact section, we inadvertently omitted the contact for the Medicaid Promoting Interoperability Program.

On pages 20384, 20385, and 20401, we made errors that describe the notice announcing the extension of changes to the payment adjustment for low-volume hospitals and the Medicare-dependent hospital (MDH) program for fiscal year (FY) 2018 (CMS-1677-N) as appearing in the May 7, 2018 issue of the Federal Register in which the proposed rule appeared. This notice appeared in the April 26, 2018 issue of the Federal Register (83 FR 18301).

On pages 20483, 20484, and 20492, in our discussion of the Hospital Inpatient Quality Reporting (IQR) Program, we made technical and typographical errors in two website links and in referencing the payment determination year corresponding with the CY 2020 reporting period.

On page 20533, in our discussion of the proposed new measure for the Promoting Interoperability Programs, Support Electronic Referral Loops by Receiving and Incorporating Health Information, we made a technical error in our citation to the CEHRT capabilities and standards that eligible hospitals and CAHs must use. We erroneously cited 45 CFR 170.315(g)(1) and (2) instead of 45 CFR 170.315(b)(1) and (2).

On page 20557, in our discussion of the information collection requirements for the Hospital IQR Program, we made a technical error by referring to an outdated name of a form in our description of burden estimates for proposed removal of two structural measures.

On page 20563, in our discussion of the information collection burden estimates for the Promoting Interoperability Programs, we made a technical error by incorrectly referring to Title 45 instead of Title 42 of the Code of Federal Regulations (CFR) when describing proposed amendments to the prior approval policy applicable in the Medicaid Promoting Interoperability Program.

III. Correction of Errors in the Preamble

In FR Doc. 2018-08705 of May 7, 2018 (83 FR 20164), we are making the following corrections:

1. On page 20165, first column, after the second full paragraph, the text is corrected by adding the following:

“David Koppel, (214) 767-4403, Medicaid Promoting Interoperability Program Related Issues.”

2. On page 20384, lower half of the page—

a. Second column, last paragraph, lines 27 and 28, the phrase “elsewhere in this issue of the Federal Register” is corrected to read “in a separate issue of the Federal Register”.

b. Third column, last paragraph, lines 11 and 12, the phrase “elsewhere in this issue of the Federal Register” is corrected to read “in a separate issue of the Federal Register”.

3. On page 20385, first partial paragraph, lines 5 and 6, the phrase “elsewhere in this issue of the Federal Register” is corrected to read “in a separate issue of the Federal Register”.

4. On page 20401, third column, second full paragraph, lines 15 and 16, the phrase “elsewhere in this issue of the Federal Register” is corrected to read “in a separate issue of the Federal Register”.

5. On page 20483, first column, second footnoted paragraph (footnote 286), lines 1 through 4, the URL “http://www.strokassociation.org/STROKEORG/AboutStroke/Impact-of-Stroke-Stroke-statistics_UCM_310728_Article.jsp#.WtDzy42Wzg9.” is corrected to read “http://www.strokeassociation.org/STROKEORG/AboutStroke/Impact-of-Stroke-Stroke-statistics_UCM_310728_Article.jsp#.WtDzy42Wzg9.”.

6. On page 20484, top half of the page, first column, second partial paragraph, line 11, the phrase “CY 2020 reporting period/FY 2021 payment determination” is corrected to read “CY 2020 reporting period/FY 2022 payment determination”.

7. On page 20492, lower third of the page, third column, first partial paragraph, the URL “http://cms.gov/Medicare/Quality-Initiatives-Patient-Assessment-Instruments/HospitalQualityInits/Measure-Methodology.html.” is corrected to read “https://www.cms.gov/Medicare/Quality-Initiatives-Patient-Assessment-Instruments/MMS/PC-Updates-on-Previous-Comment-Periods.html”.

8. On page 20533, second column, third full paragraph, lines 5 and 6, the citation “45 CFR 170.315(g)(1) and (g)(2)” is corrected to read “45 CFR 170.315(b)(1) and (b)(2).”

9. On page 20557, first column, first full paragraph, lines 30 and 31, the phrase “Extraordinary Circumstances Extension/Exemption Request Form” is corrected to read “Extraordinary Circumstances Exceptions Request Form”.

10. On page 20563, third column, first paragraph, lines 3 and 4, the CFR citation “45 CFR 495.324(b)(2) and 495.324(b)(3)” is corrected to read “42 CFR 495.324(b)(2) and 495.324(b)(3).”

Dated: June 14, 2018.
Ann C. Agnew,
Executive Secretary to the Department, Department of Health and Human Services.

[FR Doc. 2018-13152 Filed 6-15-18; 11:15 am]

BILLING CODE 4120-01-P